DEPARTMENT OF ENERGY

Federal Energy Regulatory Commission

Combined Notice of Filings #1

Take notice that the Commission received the following exempt wholesale generator filings:

Docket Numbers: EG24-136-000.

Applicants: Ables Springs Solar, LLC.

Description: Ables Springs Solar, LLC submits Notice of Self-Certification of exempt Wholesale Generator Status.

Filed Date: 3/15/24.

Accession Number: 20240315-5269.

Comment Date: 5 p.m. ET 4/5/24.

Docket Numbers: EG24-137-000.

Applicants: Ables Springs Storage, LLC.

Description: Ables Springs Storage, LLC submits Notice of Self-Certification of Exempt Wholesale Generator Status.

Filed Date: 3/15/24.

Accession Number: 20240315-5270.

Comment Date: 5 p.m. ET 4/5/24.

Take notice that the Commission received the following Complaints and Compliance filings in EL Dockets:

Docket Numbers: EL24-90-000.

Applicants: Energy Management Solutions, L.L.C. v. PJM Interconnection, L.L.C.

Description: Complaint of Energy Management Solutions, L.L.C. v. PJM Interconnection, L.L.C.

Filed Date: 3/15/24.

Accession Number: 20240315-5250.

Comment Date: 5 p.m. ET 4/4/24.

Take notice that the Commission received the following electric rate filings:

Docket Numbers: ER20-2004-005.

Applicants: Public Service Electric and Gas Company, PJM Interconnection, L.L.C.

Description: Compliance filing: Public Service Electric and Gas Company submits tariff filing per 35: PSE&G Compliance Filing in ER20-2004 to be effective 1/27/2020.

Filed Date: 3/18/24.

Accession Number: 20240318-5205.

Comment Date: 5 p.m. ET 4/8/24.

Docket Numbers: ER24-695-001.

Applicants: Alabama Power Company, Georgia Power Company, Mississippi Power Company.

Description: Tariff Amendment: Alabama Power Company submits tariff filing per 35.17(b): Rhineng BESS LGIA Deficiency Response to be effective 12/4/2023.

Filed Date: 3/18/24.

Accession Number: 20240318-5168.

Comment Date: 5 p.m. ET 4/8/24.

Docket Numbers: ER24-713-001.

Applicants: Alabama Power Company, Georgia Power Company, Mississippi Power Company.

Description: Tariff Amendment: Alabama Power Company submits tariff filing per 35.17(b): Pinewood Solar LGIA Deficiency Response to be effective 12/9/2023.

Filed Date: 3/18/24.

Accession Number: 20240318-5129.

Comment Date: 5 p.m. ET 4/8/24.

Docket Numbers: ER24-714-001.

Applicants: Alabama Power Company, Georgia Power Company, Mississippi Power Company.

Description: Tariff Amendment: Alabama Power Company submits tariff filing per 35.17(b): Zurisol (Rockdale Storage) LGIA Deficiency Response to be effective 12/8/2023.

Filed Date: 3/18/24.

Accession Number: 20240318-5131.

Comment Date: 5 p.m. ET 4/8/24.

Docket Numbers: ER24-750-001.

Applicants: Town Hill Energy Storage 1 LLC.

Description: Tariff Amendment: Supplement to Application for Market-Based Rate Authority to be effective 1/1/2024.

Filed Date: 3/18/24.

Accession Number: 20240318-5200.

Comment Date: 5 p.m. ET 4/8/24.

Docket Numbers: ER24-1526-000.

Applicants: New Market Solar ProjectCo 1, LLC.

Description: Initial rate filing: Reactive Rate Service as FERC Rate Schedule No. 2 to be effective 5/1/2024.

Filed Date: 3/18/24.

Accession Number: 20240318-5094.

Comment Date: 5 p.m. ET 4/8/24.

Docket Numbers: ER24-1528-000.

Applicants: New Market Solar ProjectCo 2, LLC.

Description: Initial rate filing: Reactive Rate Service as FERC Rate Schedule No. 2 to be effective 5/1/2024.

Filed Date: 3/18/24.

Accession Number: 20240318-5096.

Comment Date: 5 p.m. ET 4/8/24.

Docket Numbers: ER24-1543-000.

Applicants: Southern California Edison Company.

Description: § 205(d) Rate Filing: SCE-LADWP PDCI Amendments 1 and 2 to be effective 5/18/2024.

Filed Date: 3/18/24.

Accession Number: 20240318-5135.

Comment Date: 5 p.m. ET 4/8/24.

Docket Numbers: ER24-1544-000.

Applicants: Duke Energy Indiana, LLC.

Description: § 205(d) Rate Filing: 2024 Annual Reconciliation filing—DEI Rate Schedule No. 253 to be effective 7/1/2023.

Filed Date: 3/18/24.

Accession Number: 20240318-5136.

Comment Date: 5 p.m. ET 4/8/24.

Docket Numbers: ER24-1549-000.

Applicants: American Electric Power Service Corporation, PJM Interconnection, L.L.C.

Description: § 205(d) Rate Filing: American Electric Power Service Corporation submits tariff filing per 35.13(a)(2)(iii: AEP submits one Facilities Agreement re: ILDSA, SA No. 5120 to be effective 5/20/2024.

Filed Date: 3/18/24.

Accession Number: 20240318-5171.

Comment Date: 5 p.m. ET 4/8/24.

Docket Numbers: ER24-1550-000.

Applicants: Tucson Electric Power Company.

Description: Baseline eTariff Filing: TEP Reserve Energy Service Tariff to be effective 5/1/2024.

Filed Date: 3/18/24.

Accession Number: 20240318-5172.

Comment Date: 5 p.m. ET 4/8/24.

Docket Numbers: ER24-1553-000.

Applicants: AEP Texas Inc.

Description: § 205(d) Rate Filing: AEPTX-Big Country Electric Cooperative 1st Amended TSA to be effective 2/25/2024.

Filed Date: 3/18/24.

Accession Number: 20240318-5208.

Comment Date: 5 p.m. ET 4/8/24.

Docket Numbers: ER24-1554-000.

Applicants: Duke Energy Progress, LLC, Duke Energy Carolinas, LLC.

Description: Compliance filing: Duke Energy Progress, LLC submits tariff filing per 35: Compliance Filing Containing Revisions to Attachment K to Joint OATT to be effective 11/1/2025.

Filed Date: 3/18/24.

Accession Number: 20240318-5216.

Comment Date: 5 p.m. ET 4/8/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 18, 2024.
Debbie-Anne A. Reese,
Acting Secretary.

[FR Doc. 2024-06133 Filed 3-21-24; 8:45 am]

BILLING CODE 6717-01-P